DEPARTMENT OF TRANSPORTATION

Federal Aviation Administration

14 CFR Part 71

[Airspace Docket No. 02-AWP-4]

Proposed Establishment of Class D Airspace; Henderson Airport; Las Vegas, NV

AGENCY: Federal Aviation Administration (FAA), DOT.

ACTION: Notice of proposed rulemaking.

SUMMARY: This notice proposes to establish a Class D surface area at Henderson Airport in Las Vegas, NV. A Federal Contract Tower provides air traffic control services at this location on a part-time basis. Henderson Airport routinely serves a large volume of air tour operator traffic to and from the Grand Canyon area, as well as considerable general aviation activity operating under visual flight rules. Henderson Tower controllers are certified by the National Weather Service (NWS) to provide surface weather observations at Henderson Airport. Adequate communication capabilities exist to support the establishment of Class D airspace. A review of current and projected operations and procedures at Henderson Airport has indicated the need for Class D airspace to enhance aviation safety. This action would establish Class D airspace extending upward from the surface to, but not including, 4,000 feet MSL within a 4.1-mile radius of Henderson Airport, excluding Las Vegas Class B airspace.

DATES: Comments must be received on or before September 6, 2002.

ADDRESSES: Send comments on the proposal in triplicate to: Federal Aviation Administration, Attn: Manager, Airspace Branch, Docket No. 02-AWP-4; Air Traffic Division (AWP-500); P.O. Box 92007; Los Angeles, California 90009.

The official docket may be examined in the Office of the Regional Counsel, Western-Pacific Region, Federal Aviation Administration, Room 6007, 15000 Aviation Boulevard, Lawndale, California 90261. An informal docket may also be examined during normal business hours at the Office of the Manager, Airspace Branch, Air Traffic Division, at the above address.

FOR FURTHER INFORMATION CONTACT: Jeri Carson, Airspace Specialist, AWP-520, Air Traffic Division, Western-Pacific Region, Federal Aviation Administration, 15000 Aviation Boulevard, Lawndale, California 90261, telephone number (310) 725-6611.

SUPPLEMENTARY INFORMATION:

Comments Invited

Interested parties are invited to participate in this proposed rulemaking by submitting such written data, views, or arguments, as they may desire. Comments that provide that factual basis supporting the views and suggestions presented are particularly helpful in developing reasoned regulatory decisions on the proposal. Comments are specifically invited on the overall regulatory, aeronautical, economic, environmental, and energy-related aspects of the proposal. Communications should identify the airspace docket number and be submitted in triplicate to the address listed above. Commenters wishing the FAA to acknowledge receipt of their comments on this notice must submit with the comments a self-addressed, stamped postcard on which the following statement is made: “Comments to Airspace Docket No. 02-AWP-4.” The postcard will be date/time stamped and returned to the commenter. All communications received on or before the specified closing date for comments will be considered before taking action on the proposed rule. The proposal contained in this notice may be changed in light of comments received. All comments submitted will be available for examination in the Airspace Branch, Air Traffic Division, at 15000 Aviation Boulevard, Lawndale, California 90261, both before and after the closing date for comments. A report summarizing each substantive public contact with FAA personnel concerned with this rulemaking will be filed in the docket.

Availability of NPRM

Any person may obtain a copy of this Notice of Proposed Rulemaking (NPRM) by submitting a request to the Federal Aviation Administration, Airspace Branch, 15000 Aviation Boulevard, Lawndale, California 90261. Communications must identify the notice number of this NPRM. Persons interested in being placed on a mailing list for future NPRM's should also request a copy of Advisory Circular No. 11-2A, which describes the application procedures.

The Proposal

The FAA is considering an amendment to 14 CFR part 71 that would establish a Class D surface area at Henderson Airport in Las Vegas, NV. A Federal Contract Tower provides air traffic control services at this location on a part-time basis. The Henderson Airport routinely serves a large volume of air tour operator traffic to and from the Grand Canyon area in addition to considerable general aviation activity. Henderson Tower controllers are certified as weather observers for this airport, and adequate communication facilities have been established to support Class D airspace. A review of current and projected operations and procedures at Henderson Airport indicates the need for Class D airspace to enhance aviation safety, and in the interest of the commerce and welfare of the community. This action would establish Class D airspace extending upward from the surface to, but not including, 4,000 feet MSL within a 4.1-mile radius of Henderson Airport, excluding Las Vegas Class B airspace. Class D airspace areas are published in Paragraph 5000 of FAA Order 7400.9J, Airspace Designations and Reporting Points, dated August 31, 2001, and effective September 16, 2001, which is incorporated by reference in 14 CFR 71.1. The Class D airspace designation listed in the document would be published subsequently in that Order.

The FAA has determined that this proposed regulation only involves an established body of technical regulations for which frequent and routine amendments are necessary to keep them operationally current. Therefore, this proposed regulation—(1) Is not a “significant regulatory action” under Executive Order 12866; (2) is not a “significant rule” under DOT Regulatory Policies and Procedures (44 FR 11034; February 26, 1979); and (3) does not warrant preparation of a Regulatory Evaluation as the anticipated impact is so minimal. Since this a routine matter that will only affect air traffic procedures and air navigation, it is certified that this proposed rule would not have a significant economic impact on a substantial number of small entities under the criteria of the Regulatory Flexibility Act.

List of Subjects in 14 CFR Part 71

Airspace, Incorporation by reference, Navigation (air).

The Proposed Amendment

In consideration of the foregoing, the Federal Aviation Administration proposes to amend 14 CFR part 71 as follows:

PART 71—DESIGNATION OF CLASS A, CLASS B, CLASS C, CLASS D AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9J, Airspace Designations and Reporting Points, dated August 31, 2001, and effective September 16, 2001, is amended as follows:

Paragraph 5000 Class D Airspace.

* * * * *

AWP CA D Henderson Airport, NV [New]

Henderson Airport, NV

(Lat. 35°58′35″N, long. 115°07′58″W)

That airspace extending upward from the surface to, but not including, 4,000 feet MSL within a 4.1-mile radius of Henderson Airport, excluding Las Vegas Class B airspace. This Class D airspace area is effective during the specific dates and times established in advance by a Notice to Airmen. The effective date and time will thereafter be continuously published in the Airport/Facility Directory.

* * * * *

Issued in Los Angeles, California, on June 28, 2002.
John Clancy,
Manager, Air Traffic Division, Western-Pacific Region.

[FR Doc. 02-18471 Filed 7-22-02; 8:45 am]

BILLING CODE 4910-13-M